OFFICE OF SCIENCE AND TECHNOLOGY POLICY

Subcommittee on Forensic Science; Committee on Science; National Science and Technology Council

ACTION: Notice of Panel Session. Public input is requested concerning Automated Fingerprint Identification System (AFIS) interoperability and the appropriate Federal Executive Branch responses to the AFIS interoperability issues identified in the National Academy of Sciences 2009 report: “Strengthening Forensic Science in the United States: A Path Forward” (http://www.nap.edu/catalog.php?record_id=12589#toc).

SUMMARY: The Subcommittee on Forensic Science (SoFS) of the National Science and Technology Council's (NSTC's) Committee on Science will host a public forum in collaboration with the International Association for Identification (IAI) 96th International Educational Conference. The role of the SoFS is to coordinate Federal activities and advise the Executive Office of the President on national efforts to improve forensic science and its application in America's justice system. This special session will serve to provide the public with the opportunity to ask questions and provide comments on issues related to Automated Fingerprint Identification System (AFIS) latent print interoperability.

DATES and ADDRESSES: The session will be held in conjunction with the IAI 96th International Educational Conference, held at the Frontier Airlines Center, 400 W. Wisconsin Avenue, Milwaukee, Wisconsin 53203. The session will be held on Friday, August 12, 2011, from 11 a.m. to 12 p.m. Check the meeting registration desk for room location. Information regarding the IAI Annual Conference is available at http://theiai.org/conference/2011/index.php.

Note: Persons solely attending this SoFS public session do not need to register for the IAI 96th International Educational Conference to attend. There will be no admission charge for persons solely attending the public meeting. Seating will be on a first come, first served basis. For those who cannot attend but wish to provide written comments or questions, please do so by sending an email to the Subcommittee's Executive Secretary, Robin Jones, at: Robin.W.Jones@usdoj.gov, no later than Friday, July 29, 2011.

FOR FURTHER INFORMATION CONTACT: Additional information and links to the Subcommittee on Forensic Science can be obtained through the Office of Science and Technology Policy's NSTC Web site at: http://www.ostp.gov/nstc or by calling 202-456-6012.

Kenneth E. Melson,
Co-Chair, Subcommittee on Forensic Science.

[FR Doc. 2011-16404 Filed 6-29-11; 8:45 am]

BILLING CODE 4410-FY-P